DEPARTMENT OF JUSTICE

Notice of Lodging of Stipulation of Settlement and Judgment Under the Clean Water Act

On January 14, 2015, the Department of Justice lodged a proposed Stipulation of Settlement and Judgment (the “Stipulation of Settlement”) with the United States Court for the Southern District of Iowa in the lawsuit entitled United States v. Twin County Dairy, Inc., (S.D. Iowa), No. 3:15-cv-00009.

The Stipulation of Settlement resolves the United States' claims against Twin County Dairy, Inc., for alleged violations of the Clean Water Act, 33 U.S.C. 1251, et seq., as set forth in the United States' complaint filed on January 14, 2015. In this action, the United States sought penalties pursuant to Section 309(b) and (d) of the Clean Water Act, 33 U.S.C. 1319(b), (d), against Twin County Dairy, Inc. (the “Settling Defendant”). The Complaint alleged that the Settling Defendant violated the conditions of National Pollutant Discharge Elimination System (“NPDES”) permits issued by the State of Iowa pursuant to the Clean Water Act, 33 U.S.C. 1342, at its dairy in Kalona, Iowa. Twin County Dairy, Inc. no longer owns nor operates the dairy, including its wastewater treatment plant, in Kalona, Iowa. Thus, pursuant to the proposed Stipulation of Settlement, the Settling Defendant certifies that it has ceased the alleged violations in the Complaint. Under the Stipulation of Settlement, the Settling Defendant will pay to the United States $200,000 in penalties for the violations alleged in the Complaint.

The publication of this notice opens a period for public comment on the proposed Stipulation of Settlement. Comments should be addressed to the Assistant Attorney General, Environment and Natural Resources Division, and should refer to United States v. Twin County Dairy, Inc. (S.D. Iowa) No. 3:15-cv-00009, D.J. Ref. 90-5-1-1-10716. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Stipulation of Settlement may be examined and downloaded at this Justice Department Web site: http://www.usdoj.gov/enrd/Consent_Decrees.html. We will provide a paper copy of the proposed Stipulation of Settlement upon written request and payment of reproduction costs. Please mail your request and payment to: Consent Decree Library, U.S. DOJ—ENRD, P.O. Box 7611, Washington, DC 20044-7611.

Please enclose a check or money order for $2.50 (25 cents per page reproduction cost) payable to the United States Treasury.

Susan M. Akers,
Assistant Section Chief, Environmental Enforcement Section, Environment and Natural Resources Division.

[FR Doc. 2015-01740 Filed 1-29-15; 8:45 am]

BILLING CODE 4410-15-P